DEPARTMENT OF TRANSPORTATION

Federal Highway Administration

Notice of Final Agency Actions on Proposed Highway in California

AGENCY: Federal Highway Administration (FHWA), DOT.

ACTION: Notice of Limitation on Claims for Judicial Review of Actions by the California Department of Transportation (Caltrans), pursuant to 23 U.S.C. 327, and other Federal agencies.

SUMMARY: The FHWA, on behalf of Caltrans, is issuing this notice to announce actions taken by Caltrans that are final within the meaning of 23 U.S.C. 139(l)(1). The actions relate to a proposed highway project, Interstate 5 from the cities of Mission Viejo and Lake Forest in the County of Orange, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 27, 2015. If the Federal law that authorizes judicial review of a claim provides a time period of less than 150 days for filing such claim, then that shorter time period still applies.

FOR FURTHER INFORMATION CONTACT: Smita Deshpande, Branch Chief, California Department of Transportation District 12, Division of Environmental Analysis, 3347 Michelson Drive, Suite 100, Irvine, CA 92612, during normal business hours from 9:00 a.m. to 5:00 p.m., telephone (949) 724-2245, email smita.deshpande@dot.ca.gov.

SUPPLEMENTARY INFORMATION: Effective July 1, 2007, the FHWA assigned, and the Caltrans assumed environmental responsibilities for this project pursuant to 23 U.S.C. 327. Notice is hereby given that Caltrans has taken final agency actions subject to 23 U.S.C. 139(l)(1) by issuing licenses, permits, and approvals for the following highway project in the State of California: the Interstate 5 Widening Project includes the addition of general-purpose lanes in each direction on Interstate 5 between Avery Parkway and Alicia Parkway and extend the second high-occupancy vehicle (HOV) lane from Alicia Parkway to El Toro Road. The project limits on I-5 extend from 0.5 mile (mi) south of the SR-73 interchange (Post Mile [PM] 12.4) to 0.2 mi north of the El Toro Road Undercrossing (UC) (PM 18.9). The actions by the Federal agencies, and the laws under which such actions were taken, are described in the Environmental Assessment/Finding of No Significant Impact (EA/FONSI) for the project, approved on May 6, 2014 and in other documents in Caltrans' project records. The EA/FONSI and other project records are available by contacting Caltrans at the address provided above. The Caltrans FONSI can be viewed and downloaded from the project Web site at http://www.dot.ca.gov/dist12/files/5widening.

This notice applies to all Federal agency decisions as of the issuance date of this notice and all laws under which such actions were taken, including but not limited to

1. General: National Environmental Policy Act (NEPA) (42 U.S.C. 4321-4351).

2. Clean Air Act (42 U.S.C. 7401-7671 (q)).

3. Migratory Bird Treaty Act (16 U.S.C. 703-712).

4. Historic and Cultural Resources: Section 106 of the National Historic Preservation Act of 1966, as amended (16 U.S.C. 470(f) et seq.).

5. Clean Water Act (Section 401) (33 U.S.C. 1251-1377).

6. Federal Endangered Species Act of 1973 (16 U.S.C. 1531-1543).

7. Executive Order 11990—Protection of Wetlands.

8. Executive Order 11988—Floodplain Management.

9. Executive Order 12898—Environmental Justice.

10. Department of Transportation Act of 1966, Section 4(f) (49 U.S.C. 303).

11. Executive Order 13112—Invasive Species.

(Catalog of Federal Domestic Assistance Program Number 20.205, Highway Planning and Construction. The regulations implementing Executive Order 12372 regarding intergovernmental consultation on Federal programs and activities apply to this program.)

Authority: 23 U.S.C. 139(l)(1)

Gary Sweeten,
North Team Leader, Project Delivery, Federal Highway Administration, Sacramento, California.

[FR Doc. 2015-03951 Filed 2-25-15; 8:45 am]

BILLING CODE 4910-RY-P